DEPARTMENT OF COMMERCE

International Trade Administration

[A-570-182, A-552-845]

Thermoformed Molded Fiber Products From the People's Republic of China and the Socialist Republic of Vietnam: Postponement of Preliminary Determinations in the Less-Than-Fair-Value Investigations

AGENCY: Enforcement and Compliance, International Trade Administration, Department of Commerce.

DATES: Applicable March 4, 2025.

FOR FURTHER INFORMATION CONTACT: Matthew Lipka at (202) 482-7976 (the People's Republic of China (China)); Zachary Shaykin at (202) 482-2638 (the Socialist Republic of Vietnam (Vietnam)), AD/CVD Operations, Offices VII and IV, Enforcement and Compliance, International Trade Administration, U.S. Department of Commerce, 1401 Constitution Avenue NW, Washington, DC 20230.

SUPPLEMENTARY INFORMATION:

Background

On October 28, 2024, the U.S. Department of Commerce (Commerce) initiated less-than-fair-value (LTFV) investigations of imports of thermoformed molded fiber products (molded fiber products) from China and Vietnam.¹ Currently, the preliminary determinations are due no later than March 17, 2025.

¹ See Thermoformed Molded Fiber Products from the People's Republic of China and the Socialist Republic of Vietnam: Initiation of Less-Than-Fair-Value Investigations, 89 FR 87551 (November 4, 2024) (Initiation Notice).

Postponement of Preliminary Determinations

Section 733(b)(1)(A) of the Tariff Act of 1930, as amended (the Act), requires Commerce to issue the preliminary determination in an LTFV investigation within 140 days after the date on which Commerce initiated the investigation. However, section 733(c)(1)(A)(b)(1) of the Act permits Commerce to postpone the preliminary determination until no later than 190 days after the date on which Commerce initiated the investigation if: (A) the petitioner ² makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

² The petitioners are Genera; Tellus Products, LLC; and the United Steel, Paper and Forestry, Rubber, Manufacturing, Energy, Allied Industrial and Service Workers International Union, AFL-CIO.

On February 12, 2025, the petitioner submitted a timely request that Commerce postpone the preliminary determinations in these LTFV investigations.³ The petitioners stated that they request postponement due to “the size and complexity of these investigations, the numerous extensions of time received by respondents to submit responses to {Commerce's} initial questionnaire, and {Commerce's} concurrent countervailing duty investigations concerning thermoformed molded fiber products from China and Vietnam.” ⁴

³ See Petitioners' Letter, “Thermoformed Molded Fiber Products from the People's Republic of China and Socialist Republic of Vietnam: Petitioners' Request to Extend Antidumping Preliminary Determination,” dated February 12, 2025.

⁴ Id. at 2.

For the reasons stated above and because there are no compelling reasons to deny the request, Commerce, in accordance with section 733(c)(1)(A) of the Act, is postponing the deadline for the preliminary determinations by 50 days (i.e., 190 days after the date on which these investigations were initiated). As a result, Commerce will issue its preliminary determinations no later than May 6, 2025. In accordance with section 735(a)(1) of the Act and 19 CFR 351.210(b)(1), the deadline for the final determinations of these investigations will continue to be 75 days after the date of the preliminary determinations, unless postponed at a later date.

This notice is issued and published pursuant to section 733(c)(2) of the Act and 19 CFR 351.205(f)(1).

Dated: February 26, 2025.
Christopher Abbott,
Deputy Assistant Secretary for Policy and Negotiations, performing the non-exclusive functions and duties of the Assistant Secretary for Enforcement and Compliance.

[FR Doc. 2025-03450 Filed 3-3-25; 8:45 am]

BILLING CODE 3510-DS-P